NUCLEAR REGULATORY COMMISSION

[Docket No. 50-271; License No. DPR-28]

Entergy Nuclear Vermont Yankee, LLC and Entergy Nuclear Operations, Inc. Notice of Issuance of Director's Decision Under 10 CFR 2.206

Notice is hereby given that the Director, Office of Nuclear Reactor Regulation, has issued a Director's Decision with regard to a petition dated October 11, 2005, filed by Mr. Jonathan M. Block hereinafter referred to as the “Petitioner.” The petition concerns the operation of the Vermont Yankee Nuclear Power Station (Vermont Yankee).

The petition requested that the NRC require the temporary emergency closure or de-rating of Vermont Yankee due to flooding conditions on October 8 and 9, 2005.

As a basis for this request, the petitioner stated that evacuations would be impossible as a result of storm damage to existing evacuation routes for Vermont Yankee.

The petition of October 11, 2005, raised immediate concerns regarding emergency evacuation planning for the States of Vermont and New Hampshire due to storm damage to existing evacuation routes through the city of Keene, town of Hinsdale, and other portions of New Hampshire. In a teleconference with the NRC, the Petitioner raised additional concerns regarding the Department of Homeland Security, Federal Emergency Management Agency (DHS/FEMA) and the State of New Hampshire's plans for an evacuation if an event were to occur at Vermont Yankee simultaneously with a natural disaster. Specific concerns were raised regarding alternative assembly points and decontamination centers for people who would normally evacuate through potentially flooded areas. The Petitioner also requested assurance from the NRC that contingency evacuation plans are in place.

The NRC sent a copy of the proposed Director's Decision to the Petitioner and to the licensee for comment on December 7, 2005 (Accession No. ML053140204). The NRC staff did not receive any comments on the proposed Director's Decision.

The Director of the Office of Nuclear Reactor Regulation has determined that, The Petitioner's emergency request of October 11, 2005, to shut down or de-rate Vermont Yankee was denied. The reasons for this decision are explained in the director's decision pursuant to 10 CFR 2.206 (DD-06-02), the complete text of which is available in ADAMS, and is available for inspection at the Commission's Public Document Room (PDR), located at One White Flint North, Public File Area O1 F21, 11555 Rockville Pike (first floor), Rockville, Maryland, and from the ADAMS Public Library component on the NRC Web site, http://www.nrc.gov/reading-rm/adams.html (the Public Electronic Reading Room). Persons who do not have access to ADAMS or who encounter problems in accessing the documents located in ADAMS should contact the NRC PDR reference staff at 1-800-397-4209 or 301-415-4737, or by e-mail to pdr@nrc.gov.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 4th day of March 2006.
For the Nuclear Regulatory Commission.
J.E. Dyer,
Director, Office of Nuclear Reactor Regulation.

[FR Doc. 06-2320 Filed 3-9-06; 8:45 am]

BILLING CODE 7590-01-P